COMMITTEE FOR PURCHASE FROM PEOPLE WHO ARE BLIND OR SEVERELY DISABLED

Procurement List; Proposed Additions and Deletions

ACTION: Proposed additions to and deletions from procurement list.

SUMMARY: The Committee is proposing to add to the Procurement List services to be furnished by nonprofit agencies employing persons who are blind or have other severe disabilities, and to delete a product and services previously furnished by such agencies.

Comments Must be Received On or Before: November 18, 2007.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Base Supply Center, Defense Supply Center Richmond, 8000 Jefferson Davis Highway, Richmond, VA.

NPA: Virginia Industries for the Blind, Charlottesville, VA.

Contracting Activity: Defense Logistics Agency, Defense Supply Center-Richmond, VA.

Service Type/Location: Catering Services, San Antonio Detention Center, 8940 Fourwinds Drive, 1st Floor Detention Branch, San Antonio, TX.

NPA: Goodwill Industries of San Antonio, San Antonio, TX.

Contracting Activity: Immigration and Customs Enforcement, Washington, DC.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

Comments on this certification are invited. Commenters should identify the statement(s) underlying the certification on which they are providing additional information.

End of Certification

The following product and services are proposed for deletion from the Procurement List:

Product

Paper, Xerographic & Inkjet (Large Format)

NSN: 7530-00-NIB-0483

NSN: 7530-00-NIB-0598

NSN: 7530-00-NIB-0599

NSN: 7530-00-NIB-0600

NSN: 7530-00-NIB-0601

NSN: 7530-00-NIB-0602

NSN: 7530-00-NIB-0603

NSN: 7530-00-NIB-0604

NSN: 7530-00-NIB-0605

NSN: 7530-00-NIB-0606

NSN: 7530-00-NIB-0607

NSN: 7530-00-NIB-0608

NSN: 7530-00-NIB-0609

NSN: 7530-00-NIB-0610

NSN: 7530-00-NIB-0611

NSN: 7530-00-NIB-0612

NSN: 7530-00-NIB-0613

NSN: 7530-00-NIB-0614

NSN: 7530-00-NIB-0615

NSN: 7530-00-NIB-0616

NSN: 7530-00-NIB-0617

NSN: 7530-00-NIB-0618

NSN: 7530-00-NIB-0619

NSN: 7530-00-NIB-0620

NSN: 7530-00-NIB-0621

NSN: 7530-00-NIB-0622

NSN: 7530-00-NIB-0623

NSN: 7530-00-NIB-0624

NSN: 7530-00-NIB-0625

NSN: 7530-00-NIB-0626

NSN: 7530-00-NIB-0627

NSN: 7530-00-NIB-0628

NSN: 7530-00-NIB-0629

NSN: 7530-00-NIB-0630

NSN: 7530-00-NIB-0631

NSN: 7530-00-NIB-0632

NSN: 7530-00-NIB-0633

NSN: 7530-00-NIB-0634

NSN: 7530-00-NIB-0635

NSN: 7530-00-NIB-0636

NSN: 7530-00-NIB-0637

NSN: 7530-00-NIB-0638

NSN: 7530-00-NIB-0639

NSN: 7530-00-NIB-0640

NSN: 7530-00-NIB-0641

NSN: 7530-00-NIB-0642

NPA: Wiscraft Inc.—Wisconsin Enterprises for the Blind, Milwaukee, WI

Contracting Activity: General Services Administration, Office Supplies & Paper Products Acquisition Ctr, New York, NY

Services

Service Type/Location: Food Service Attendant, Air National Guard Base, Building 600, Lincoln, NE.

NPA: Goodwill Services, Inc., Lincoln, NE.

Contracting Activity: Air National Guard, Lincoln, NE.

Service Type/Location: Grounds Maintenance, U.S. Department of Agriculture, Forest Service Office, Beaverhead-Deerlodge National Forest, Butte, MT.

NPA: BSW, Inc., Butte, MT.

Contracting Activity: U.S. Department of Agriculture, Forest Service, Butte, MT.

Service Type/Location: Janitorial/Custodial, U.S. Customs Service, 8855 NE Airport Way, Portland, OR.

NPA: Portland Habilitation Center, Inc., Portland, OR.

Contracting Activity: U.S. Customs Service, Indianapolis, IN.

Service Type/Location: Janitorial/Custodial, Naval and Marine Corps Reserve Center, Eugene, OR.

NPA: Unknown.

Contracting Activity: Naval Facilities Engineering Command—Everett, Everett, WA.

Kimberly M. Zeich,
Director, Program Operations.

[FR Doc. E7-20637 Filed 10-18-07; 8:45 am]

BILLING CODE 6353-01-P